DEPARTMENT OF COMMERCE

National Oceanic and Atmospheric Administration

Agency Information Collection

ACTION: Request for information.

SUMMARY: In furtherance of its implementation of the new U.S. Commercial Remote Sensing Policy authorized by the President on April 25, 2003, the National Oceanic and Atmospheric Administration (NOAA) is seeking public comment with regard to NOAA's licensing of commercial remote sensing satellite systems, including existing Federal regulations, current licensing conditions, and possible alternative approaches. This Request for Information extends the comment period of a previous NOAA request which was published on July 15, 2003.

DATES: Submit comments on or before November 19, 2003.

ADDRESSES: Submit written comments to: NOAA/NESDIS International and Interagency Affairs Office, 1335 East-West Highway SSMC1, Room 7311, Silver Spring, MD 20910, attn: Timothy Stryker, Chief, Satellite Activities Branch.

SUPPLEMENTARY INFORMATION: The new U.S. National Space Policy, as authorized by the President on April 25, 2003, establishes guidance and implementation actions for commercial remote sensing space capabilities. A fact sheet regarding the new policy directive may be found in the “What's New” section on the NOAA Commercial Remote Sensing Licensing Web site at http://www.licensing.noaa.gov. The policy's goal is “to advance and protect U.S. national security and foreign policy interests by maintaining the nation's leadership in remote sensing space activities, and by sustaining and enhancing the U.S. remote sensing industry.”

As part of the implementation of the new policy, NOAA is seeking public comment on all aspects of its licensing program for commercial remote sensing satellite systems. NOAA is seeking comments on topics such as:

• The current NOAA regulations on commercial remote sensing satellite systems (15 CFR 960);

• The current thresholds for commercial operations of U.S. systems;

• The U.S. Government's manner of conditioning operations of U.S. system operators;

• Issues of foreign availability and competition; and,

• Possible alternative approaches to address U.S. national security, foreign policy, and commercial interests.

For public reference, the Land Remote Sensing Policy Act of 1992, NOAA regulations, and other relevant materials may be found in the “Reference Materials” section on the NOAA Commercial Remote Sensing Licensing Web site at http://www.licensing.noaa.gov. Comments should be received by NOAA no later than November 19, 2003 by postal service to the address listed above.

FOR FURTHER INFORMATION CONTACT: Timothy Stryker, NOAA/NESDIS International and Interagency Affairs, 1335 East-West Highway, Room 7311, Silver Spring, Maryland 20910; telephone (301) 713-2024 x205, fax (301) 713-2032, e-mail Timothy.Stryker@noaa.gov, or Bernard Crawford at telephone (301) 713-2024 x204, e-mail Bernard.Crawford@noaa.gov.

Gregory W. Withee,
Assistant Administrator for Satellite and Information Services.

[FR Doc. 03-26371 Filed 10-17-03; 8:45 am]

BILLING CODE 3510-HR-P